SMALL BUSINESS ADMINISTRATION

[Disaster Declaration #20985 and #20986; KENTUCKY Disaster Number KY-20016]

Presidential Declaration Amendment of a Major Disaster for Public Assistance Only for the Commonwealth of Kentucky

AGENCY: U.S. Small Business Administration.

ACTION: Amendment 3.

SUMMARY: This is an amendment of the Presidential declaration of a major disaster for Public Assistance Only for the Commonwealth of Kentucky (FEMA-4860-DR), dated March 4, 2025.

Incident: Severe Storms, Straight-line Winds, Flooding, Landslides, and Mudslides.

DATES: Issued on March 17, 2025.

Incident Period: February 14, 2025, through March 7, 2025.

Physical Loan Application Deadline Date: May 5, 2025.

Economic Injury (EIDL) Loan Application Deadline Date: December 4, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Kentucky, dated March 4, 2025, is hereby amended to update the incident period for this disaster as beginning February 24, 2025, and continuing through March 7, 2025.

All other information in the original declaration remains unchanged.

(Catalog of Federal Domestic Assistance Number 59008)

James Stallings,
Associate Administrator, Office of Disaster Recovery & Resilience.

[FR Doc. 2025-04884 Filed 3-20-25; 8:45 am]

BILLING CODE 8026-09-P